ENVIRONMENTAL PROTECTION AGENCY

[FRL-9176-3]

Science Advisory Board Staff Office; Request for Nominations of Experts for the SAB Hydraulic Fracturing Review Panel

AGENCY: Environmental Protection Agency (EPA).

ACTION: Notice.

SUMMARY: The EPA Science Advisory Board (SAB) Staff Office is requesting public nominations for technical experts to form an SAB Ad Hoc Panel to review EPA's draft Hydraulic Fracturing Study Plan to investigate the potential public health and environmental protection research issues that may be associated with hydraulic fracturing.

DATES: Nominations should be submitted by August 10, 2010 per instructions below.

FOR FURTHER INFORMATION CONTACT: Any member of the public wishing further information regarding this Notice and Request for Nominations may contact Mr. Edward Hanlon, Designated Federal Officer (DFO), SAB Staff Office, by telephone/voice mail at (202) 564-2134, by fax at (202) 565-2098, or via e-mail at hanlon.edward@epa.gov. General information concerning the EPA Science Advisory Board can be found at the EPA SAB Web site at: http://www.epa.gov/sab. Any inquiry regarding EPA's planned research approaches to study the potential public health and environmental protection issues that may be associated with hydraulic fracturing should be directed to Robert Puls, EPA Office of Research and Development (ORD), at Puls.Robert@epa.gov or (580) 436-8543. Media inquiries regarding EPA's draft Hydraulic Fracturing Study Plan should be directed to Enesta Jones, EPA Office of Public Affairs (OPA), at jones.enesta@epa.gov or (202) 564-7873.

SUPPLEMENTARY INFORMATION:

Background

The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

Hydraulic fracturing (or hydrofracking) generates vertical and horizontal fractures in underground geologic formations to facilitate extraction of gas (or oil) from the subsurface. While each formation has unique characteristics and features, the general process involves drilling a vertical well, extending the well bore horizontally into the formation, removing water, injecting hydrofracking fluids and then extracting the natural gas along with separation and management of fluids. Over the past few years, the use of hydraulic fracturing has increased. At the same time, concern has been expressed by the public regarding the potential environmental impacts of hydraulic fracturing. In the Congressional Appropriations Conference Report for Fiscal Year 2010, the conferees

urge[d] the Agency to carry out a study on the relationship between hydraulic fracturing and drinking water, using a credible approach that relies on the best available science, as well as independent sources of information. The conferees expect the study to be conducted through a transparent, peer-reviewed process that will ensure the validity and accuracy of the data. The Agency shall consult with other Federal agencies as well as appropriate State and interstate regulatory agencies in carrying out the study, which should be prepared in accordance with the Agency's quality assurance principles.

To respond to concerns that have been voiced by the public, and to meet the Congressional request, EPA is initiating a study on the potential environmental and human health implications of HF with special emphasis on the relationship between hydraulic fracturing and drinking water resources. At a public face-to-face meeting of the SAB Environmental Engineering Committee (EEC) on April 7-8, 2010, the SAB EEC augmented with other SAB members evaluated and commented on EPA's proposed scope of study and key research questions regarding the potential public health and environmental protection issues that may be associated with hydraulic fracturing [Federal Register Notice dated March 18, 2010 (75 FR 13125)]. On June 24, 2010 the SAB provided the EPA Administrator with an advisory report that included recommendations of the EEC, Advisory on EPA's Research Scoping Document Related to Hydraulic Fracturing, EPA-SAB-10-009.

EPA's next step is to develop a draft Study Plan for its hydraulic fracturing research. EPA has requested that the SAB review its draft Study Plan. The SAB Staff Office will form a new expert Panel to review EPA's draft Study Plan and review the Study results if SAB is requested to do so by ORD. The new, ad hoc panel is being formed to include expertise focused on the specific directions of the ORD research.

Request for Nominations

The SAB Staff Office is seeking nominations of nationally and internationally recognized scientists and engineers having experience and expertise in the following areas: petroleum (including natural gas) engineering and petroleum geology, particularly with experience in hydraulic fracturing and well testing mechanical integrity; hydrology and hydrogeology; geophysics; water quality; chemistry and geochemistry, particularly with experience in chemical fate and transport, oxidation-reduction reactions, gas-liquid exchange, and solubility; analytical chemistry, particularly regarding trace organics and environmental monitoring; statistics, particularly regarding experimental design of field studies; human health effects and risk assessment; civil and environmental engineering; chemical engineering; drinking water treatment systems; wastewater treatment systems; and social, behavioral, and decision sciences.

Process and Deadline for Submitting Nominations

Any interested person or organization may nominate qualified individuals in the areas of expertise described above for possible service on this expert ad hoc Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Mr. Edward Hanlon, DFO, as indicated above in this notice. Nominations should be submitted in time to arrive no later than August 10, 2010. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates on the SAB Web site at http://www.epa.gov/sab. Public comments on this List of Candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In forming this expert ad hoc Hydraulic Fracturing Review Panel, the SAB Staff Office will consider public comments on the List of candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of expertise and viewpoints. EPA values and welcomes diversity. In an effort to increase diversity, we seek nominations of women and men of all racial and ethnic groups.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: July 13, 2010.
Anthony F. Maciorowski,
Deputy Director, EPA Science Advisory Board Staff Office.

[FR Doc. 2010-17682 Filed 7-19-10; 8:45 am]

BILLING CODE 6560-50-P